GENERAL SERVICES ADMINISTRATION

41 CFR Parts 101-11 and 102-195

[FMR Amendment 2005-02; FMR Case 2004-102-6]

RIN 3090-AI01

Federal Management Regulation; Interagency Reports Management Program

AGENCY: Office of Governmentwide Policy, General Services Administration (GSA).

ACTION: Final rule.

SUMMARY: The General Services Administration (GSA) is amending the Federal Management Regulation (FMR) to delete the specific requirements of the Interagency Reports Management Program.

DATES: Effective Date: January 19, 2005.

FOR FURTHER INFORMATION CONTACT: The Regulatory Secretariat, Room 4035, GS Building, Washington, DC, 20405, (202) 208-7312, for information pertaining to status or publication schedules. For clarification of content, contact Mr. David Pritzker, Regulatory Information Service Center (MI), at (202) 482-7340. Please cite FMR Amendment 2005-02, FMR case 2004-102-6.

SUPPLEMENTARY INFORMATION:

A. Background

This final rule deletes from the Federal Management Regulation (FMR) the specific requirements of the Interagency Reports Management Program. GSA has determined that these requirements no longer serve a useful purpose, in view of the evolution of Federal records management practices affecting records creation and Federal policies that encourage agencies to share information electronically, when authorized by law and regulation, particularly as an alternative to collecting additional information from the public. This action is being published as a final rule because it applies only to agency management and, therefore, is not required to be published in the Federal Register for notice and comment.

For more than 30 years, GSA has had an Interagency Reports Management Program, which has governed reporting requirements imposed by a Federal agency on one or more other Federal agencies. Regulations of this program were part of a centralized implementation of Governmentwide reports management policies and guidelines specifically intended to ensure that interagency reports were cost-effective, non-duplicative, and complied with applicable information laws and regulations. The GSA regulations adopted in 1973 were amended several times but remained substantially similar in content until September 2001. They provided for a system of oversight and approval that included a procedure for advance approval by GSA of proposed interagency reporting requirements, assignment of GSA control numbers and expiration dates, and maintenance of an inventory of approved interagency reporting requirements. Agencies were asked to refrain from responding to non-approved reporting requirements and to inform GSA of any such requests.

In September 2001, GSA substantially revised its regulations for the Interagency Reports Management Program, eliminating the requirement for agencies to obtain GSA's approval before initiating an interagency report (66 FR 48357, September 20, 2001). GSA noted that this change would shorten the time between when an agency determines a need for interagency information and when the agency could initiate an interagency report to obtain that information. The change was intended to let agencies take advantage of information technology to get the information they need to accomplish their missions. However, the revised regulations (41 CFR Part 102-195) still require agencies to do an annual review of the reporting requirements they impose on other agencies to assure that they remain necessary, and to submit certain data to GSA and other agencies, if requested. The 2001 rules also require agencies to notify GSA when a report is no longer needed and to submit to GSA every three years cost information and other details about all reporting requirements they impose upon other agencies for which responding agencies as a whole would need more than 100 hours to comply.

The current GSA regulations on interagency reporting requirements have their roots in an era when almost all such reporting was done on paper and was relatively labor-intensive. They were originally adopted under a directive of the Office of Management and Budget that was eliminated in 1995 as “no longer pertinent” (see 60 FR 30444, June 8, 1995). With the development of electronic information technology and the shifting of focus to emphasize electronic information sharing among agencies, retention of even the reduced requirements of the 2001 rules places an unnecessary burden on agencies that seems to have minimal benefit, if any.

B. Executive Order 12866

The General Services Administration (GSA) has determined that this final rule is not a significant regulatory action for the purposes of Executive Order 12866.

C. Regulatory Flexibility Act

This final rule will not have a significant economic impact on a substantial number of small entities within the meaning of the Regulatory Flexibility Act, 5 U.S.C. 601, et seq., because the rule applies only to internal management and will not have a significant impact on the public.

D. Paperwork Reduction Act

The Paperwork Reduction Act does not apply because the changes to the FMR do not impose information collection requirements that require the approval of the Office of Management and Budget under 44 U.S.C. 3501, et seq.

E. Small Business Regulatory Enforcement Fairness Act

This final rule is exempt from Congressional review under 5 U.S.C. 801 since it relates solely to agency management.

List of Subjects in 41 CFR Parts 101-11 and 102-195

Archives and records, Computer technology, Government property management.

Dated: December 21, 2004.
Stephen A. Perry,
Administrator of General Services.

For the reasons set forth in the preamble, GSA amends 41 CFR parts 101-11 and 102-195 as set forth below:

1. The authority citation for 41 CFR parts 101-11 and 102-195 continues to read as follows:

Authority: 40 U.S.C. 486(c).

CHAPTER 101—FEDERAL PROPERTY MANAGEMENT REGULATIONS

PART 101-11—FEDERAL RECORDS AND STANDARD AND OPTIONAL FORMS

2. Amend part 101-11 by revising the part heading to read as set forth above.

3. Revise section 101-11.0 to read as follows:

§ 101-11.0 Cross-reference to the Federal Management Regulation (FMR) (41 CFR chapter 102, parts 1 through 220).

For information on records and standard and optional forms, see FMR parts 102-193 and 102-194 (41 CFR parts 102-193 and 102-194).

CHAPTER 102—FEDERAL MANAGEMENT REGULATION

PART 102-195 [REMOVED AND RESERVED]

4. Remove and reserve part 102-195.

[FR Doc. 05-1001 Filed 1-18-05; 8:45 am]

BILLING CODE 6820-27-S